NUCLEAR REGULATORY COMMISSION

[Docket No. NRC-2014-0134]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on July 2, 2014.

1. Type of submission, new, revision, or extension: Extension.

2. The title of the information collection: 10 CFR part 36, “Licenses and Radiation Safety Requirements for Irradiators.”

3. Current OMB approval number: 3150-0158.

4. How often the collection is required: Annually.

5. Who will be required or asked to report: Irradiator licensees licensed by NRC or an Agreement State.

6. An estimate of the number of annual responses: 1,911.28 (7.28 for reporting [1.04 NRC licensee and 6.24 Agreement State licensees], 56 for recordkeepers [8 NRC licensees and 48 Agreement State Licensees], and 1,848 for third-party disclosures [264 NRC licensees and 1,584 Agreement State licensees]).

7. The estimated number of annual respondents: 56 (8 NRC licensees and 48 Agreement State licensees).

8. An estimate of the total number of hours needed annually to complete the requirement or request: 34,048 hours (4,864 NRC licensee hours + 29,184 Agreement State licensee hours).

9. Abstract: Part 36 of Title 10 of the Code of Federal Regulations (10 CFR), contains requirements for the issuance of a license authorizing the use of sealed sources containing radioactive materials in irradiators used to irradiate objects or materials for a variety of purposes in research, industry, and other fields. The subparts cover specific requirements for obtaining a license or license exemption, design and performance criteria for irradiators; and radiation safety requirements for operating irradiators, including requirements for operating irradiators, including requirements for operator training, written operating and emergency procedures, personnel monitoring, radiation surveys, inspection, and maintenance. Part 36 also contains the recordkeeping and reporting requirements that are necessary to ensure that the irradiator is being safely operated so that it does not pose any danger to the health and safety of the general public and the irradiator employees.

The public may examine and have copied for a fee publicly-available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by November 10, 2014. Comments received after this date will be considered if it is practical to do so, but assurance of consideration cannot be given to comments received after this date.

Vlad Dorjets, Desk Officer, Office of Information and Regulatory Affairs (3150-0158), NEOB-10202, Office of Management and Budget, Washington, DC 20503.

Comments can also be emailed to Vlad_Dorjets@omb.eop.gov or submitted by telephone at 202-395-7315.

The NRC Clearance Officer is Tremaine Donnell, telephone: 301-415-6258.

Dated at Rockville, Maryland, this 7th day of October, 2014.
For the Nuclear Regulatory Commission.
Tremaine Donnell,
NRC Clearance Officer, Office of Information Services.

[FR Doc. 2014-24252 Filed 10-9-14; 8:45 am]

BILLING CODE 7590-01-P